FEDERAL DEPOSIT INSURANCE CORPORATION

Notice of Designated Reserve Ratio for 2017

AGENCY: Federal Deposit Insurance Corporation (FDIC).

ACTION: Notice of Designated Reserve Ratio for 2017.

Pursuant to the Federal Deposit Insurance Act, the Board of Directors of the Federal Deposit Insurance Corporation designates that the Designated Reserve Ratio (DRR) for the Deposit Insurance Fund shall remain at 2 percent for 2017.¹ The Board is publishing this notice as required by section 7(b)(3)(A)(i) of the Federal Deposit Insurance Act (12 U.S.C. 1817(b)(3)(A)(i)).

¹ Section 327.4(g) of the FDIC's regulations sets forth the DRR, 12 CFR 327.4(g). There is no need to amend this provision because the DRR for 2017 is the same as the current DRR.

FOR FURTHER INFORMATION CONTACT: Munsell St. Clair, Chief, Banking and Regulatory Policy Section, Division of Insurance and Research, (202) 898-8967; Robert Grohal, Chief, Fund Analysis and Pricing Section, Division of Insurance and Research, (202) 898-6939; or, Sheikha Kapoor, Senior Counsel, Legal Division, (202) 898-3960.

Dated at Washington, DC, this 20th day of September, 2016.
By order of the Board of Directors.
Valerie J. Best,
Assistant Executive Secretary.

[FR Doc. 2016-23232 Filed 9-26-16; 8:45 am]

BILLING CODE 6714-01-P